DEPARTMENT OF THE INTERIOR

Minerals Management Service (MMS)

Outer Continental Shelf (OCS), Alaska OCS Region

AGENCY: Minerals Management Service, Interior.

ACTION: Notice of Availability of the Draft Environmental Impact Statement (EIS) for the Proposed Oil and Gas Lease Sales in the Beaufort Sea, Alaska.

SUMMARY: MMS announces the availability of the draft EIS prepared by MMS for the Proposed OCS Lease Sales 186 (2003), 195 (2005), and 202 (2007) offshore Beaufort Sea, Alaska.

DATES: Comments on the draft EIS are due September 20, 2002. Public hearings will be held in Alaska: Barrow, July 22, 2002; Nuiqsut, July 24, 2002; Kaktovik, July 26; 2002; and Anchorage, July 30, 2002.

FOR FURTHER INFORMATION CONTACT: Minerals Management Service, Alaska OCS Region, 949 East 36th Avenue, Anchorage, Alaska 99508-4363, Atttention: Mr. Paul Lowry, telephone: (907) 271-6574 or toll free 1-800-764-2627.

SUPPLEMENTARY INFORMATION: This draft EIS assesses three lease sales in the Proposed Final 2002-2007 5-Year Oil and Gas Leasing Program for the Beaufort Sea OCS Planning Area. Sale 186 is scheduled for 2003; Sale 195 for 2005; and Sale 202 for 2007. Federal Regulations (40 CFR 1502.4) suggest analyzing similar or like proposals in a single EIS. The proposal for each sale is to offer 1,877 whole or partial lease blocks in the Beaufort Sea Planning Area, covering about 9.8 million acres (3.95 million hectares) for leasing. The proposed sale area is seaward up to 60 miles offshore of the State of Alaska submerged land boundary in the Beaufort Sea. It extends from the Canadian border on the east to near Barrow, Alaska, on the west.

EIS Availability: Persons interested in reviewing the Draft EIS “OCS EIS/EA, MMS 2002-29” (Volumes I and II) can contact the MMS Alaska OCS Region. The documents are available for public inspection between the hours of 8 a.m. and 4 p.m., Monday through Friday at: Minerals Management Service, Alaska OCS Region, Resource Center, 949 East 36th Avenue, Room 330, Anchorage, Alaska 99508-4363, telephone: (907) 271-6070, or (907) 271-6621, or toll free at 1-800-764-2627. Requests may also be sent to MMS at akwebmaster@mms.gov. You may obtain single copies of the draft EIS, or a CD/ROM version, or the Executive Summary from the same address. The Executive Summary (MMS 2002-30) is available in English or Native Inupiat languages.

You may look at copies of the draft EIS in the following libraries:

Alaska Pacific University, Academic Support Center Library, 4101 University Drive, Anchorage, Alaska;

Alaska Resources Library and Information Service, U.S. Department of the Interior, 3150 C Street, Suite 100, Anchorage, Alaska;

Alaska State Library, Government Publications, State Office Building, 333 Willoughby, Juneau, Alaska;

Canadian Joint Secretariat Librarian, Inuvikon Northwest Territories, Canada;

Department of Indian and Northern Affairs, Yellowknife, Northwest Territories, Canada;

Fairbanks North Star Borough, Noel Wien Library, 1215 Cowles Street, Fairbanks, Alaska;

George Francis Memorial Library, Kotzebue, Alaska;

Ilisaavik Library, Shishmaref, Alaska;

Juneau Public Library, 292 Marine Way, Juneau, Alaska;

Kaveolook School Library, Kaktovik, Alaska;

Kegoyah Kozpa Public Library, Nome, Alaska;

North Slope Borough School District, Library/Media Center, Barrow, Alaska;

Northern Alaska Environmental Center Library, 218 Driveway, Fairbanks, Alaska;

Tikigaq Library, Point Hope, Alaska;

Tuzzy Consortium Library, Barrow, Alaska;

University of Alaska Anchorage, Consortium Library, 3211 Providence Drive, Anchorage, Alaska;

University of Alaska Fairbanks, Elmer E. Rasmuson Library, Government Documents, 310 Tanana Drive, Fairbanks, Alaska;

University of Alaska Fairbanks, Geophysical Institute, Government Documents, Fairbanks, Alaska;

University of Alaska Fairbanks, Institute of Arctic Biology, 311 Irving Building, Fairbanks, Alaska;

University of Alaska, Southeast, 11120 Glacier Highway, Juneau, Alaska;

U.S. Army Corps of Engineers Library, U.S. Department of Defense, Elmendorf Air Force Base, Anchorage, Alaska;

U.S. Fish and Wildlife Service Library, 1011 East Tudor Road, Anchorage, Alaska;

Valdez Consortium Library, 200 Fairbanks Street, Valdez, Alaska;

Z.J. Loussac Library, 3600 Denali Street, Anchorage, Alaska.

Public Hearings Public hearings on the draft EIS will be held at the following locations on the dates and times listed:

Barrow, Alaska, Monday, July 22, 2002, Inupiat Heritage Center, Multipurpose Room, 7-9 p.m.

Nuiqsut, Alaska, Wednesday, July 24, 2002, Kisik Community Center, 7-9 p.m.

Kaktovik, Alaska, Friday, July 26, 2002, Quargi Community Center, 7-9 p.m.

Anchorage, Alaska, Tuesday, July 30, 2002, 949 East 36th Avenue, 3rd Floor 4-7 p.m.

An Inupiat translator will be available at the public hearings held in Barrow, Kaktovik, and Nuiqsut.

Oral and written comments on the draft EIS will be addressed in the final EIS. If you wish to testify at a hearing, you may register prior to the hearing to schedule a preferred time by contacting the Alaska OCS Region at the above address or Mr. Paul Lowry at (907) 271-6574 or toll free 1-800-764-2627 not later than 5 days prior to the hearing date. Every effort will be made to accommodate individuals who have not pre-registered to testify. Time limitations may make it necessary to limit the length of oral statements to 10 minutes. You may supplement an oral statement with a more complete written statement and submit it to a hearing official at the hearing or by mail until September 20, 2002. Each hearing will recess when all speakers have had an opportunity to testify. If, after the recess, there are no additional speakers, we will adjourn the hearing immediately after the recess. Written statements submitted at a hearing will be considered part of the hearing record. If you cannot attend the hearings, or if you prefer, you may submit your comments in writing to the address below.

Written Comments MMS requests interested parties to submit their written comments on this draft EIS to the Regional Director, Alaska OCS Region, Minerals Management Service, 949 East 36th Avenue, Room 308, Anchorage, Alaska 99508-4363. Our practice is to make comments, including the names and home addresses of respondents, available for public review. An individual commenter may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives of organizations or businesses. The comment period ends on September 20, 2002.

Dated: May 29, 2002.
Thomas A. Readinger,
Associate Director for Offshore Minerals Management.
Dated: May 30, 2002.
Terrence N. Martin
Acting Director, Office of Environmental Policy and Compliance.

[FR Doc. 02-15392 Filed 6-18-02; 8:45 am]

BILLING CODE 4310-MR-P